DEPARTMENT OF JUSTICE

[OMB Number 1124-0004]

Agency Information Collection Activities; Proposed eCollection eComments Requested; Revision of a Previously Approved Collection; Exhibit B to Registration Statement of Foreign Agents (Form NSD-4)

AGENCY: Foreign Agents Registration Act Unit (FARA Unit), Counterintelligence and Export Control Section (CES), National Security Division (NSD), U.S. Department of Justice.

ACTION: 60-Day notice.

SUMMARY: The Foreign Agents Registration Act (FARA) Unit, Counterintelligence and Export Control Section (CES), National Security Division (NSD), U.S. Department of Justice, is submitting the following information collection request to the Office of Management and Budget (OMB) for review and approval in accordance with the Paperwork Reduction Act of 1995.

DATES: The Department of Justice encourages public comment and will accept input until June 20, 2023.

FOR FURTHER INFORMATION CONTACT: If you have additional comments including on the estimated public burden or associated response time, suggestions, or need a copy of the proposed information collection instrument with instructions or additional information, please contact Jennifer K. Gellie, Acting Chief, Counterintelligence and Export Control Section, National Security Division, 175 N Street NE, Constitution Square Building Three, Suite 1.100, Washington, DC 20002, email: fara.public@usdoj.gov, telephone: (202) 233-0776.

SUPPLEMENTARY INFORMATION: Written comments and suggestions from the public and affected agencies concerning the proposed collection of information are encouraged. Your comments should address one or more of the following four points:

—Evaluate whether the proposed collection of information is necessary for the proper performance of the functions of the National Security Division, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: Exhibit B to Registration Statement, Form NSD-4 is used for registering foreign agents under the Foreign Agents Registration Act of 1938 (FARA), as amended, 22 U.S.C. 611. This is a request for a revision of a previously approved information collection for Form NSD-4. The collection will now use a new eFile webform system located on the FARA.gov website: https://www.justice.gov/nsd-fara/fara-efile.

Overview of this information collection:

1. Type of Information Collection: Revision of a currently approved collection.

2. The Title of the Form/Collection: Exhibit B to Registration Statement (Foreign Agents).

3. The agency form number, if any, and the applicable component of the Department sponsoring the collection: Form number is NSD-4. The applicable component within the Department of Justice is the Foreign Agents Registration Act Unit (FARA Unit), Counterintelligence and Export Control Section, National Security Division.

4. Affected public who will be asked or required to respond as well as obligation to respond: Private sector—business or other for-profit, not-for-profit institutions. The obligation to respond is mandatory per 28 CFR 5.

5. An estimate of the total number of respondents and the amount of time estimated for an average respondent to respond: Based on the projected number of registrations from 2023 to 2026, an estimated 451 respondents will complete Form NSD-4 once annually. Based on sample testing, each respondent will need .32 hours to complete the form.

6. An estimate of the total public burden (in hours) associated with the collection: The estimated public burden associated with this collection is 144 annual burden hours. It is estimated that respondents will take .32 hours to complete the form. (451 respondents × .32 hours = 144.32 annual burden hours).

Total Annual Burden
Activity | Number of respondents | Frequency | Total annual responses | Time per response | Total annual burden (hours)
NSD-4 | 451 | 1 | 451 | .32 | 144
Unduplicated Totals | 451 |  | 451 |  | 144

If additional information is required contact: John R. Carlson, Department Clearance Officer, United States Department of Justice, Justice Management Division, Policy and Planning Staff, Two Constitution Square, 145 N Street NE, 4W-218, Washington, DC 20530.

Dated: April 14, 2023.
John R. Carlson,
Department Clearance Officer for PRA, U.S. Department of Justice.

[FR Doc. 2023-08390 Filed 4-19-23; 8:45 am]

BILLING CODE 4410-PF-P